Title 3—

The President

Memorandum of October 16, 2002

Notification to the Congress of Trade Negotiation

Memorandum for the United States Trade Representative

You are authorized and directed to notify the Congress, pursuant to section 2104(a)(1) of the Trade Act of 2002 (19 U.S.C. 3804(a)(1)), of my intention to enter into negotiations on a Free Trade Agreement with the five member countries of the Southern African Customs Union (Botswana, Lesotho, Namibia, South Africa, and Swaziland).

You are authorized and directed to publish this memorandum in the Federal Register.

B

THE WHITE HOUSE,

Washington, October 16, 2002.

[FR Doc. 02-26812

Filed 10-17-02; 11:01 am]

Billing code 3190-01-M